SMALL BUSINESS ADMINISTRATION

[Disaster Declaration # 10442 and # 10443]

Missouri Disaster Number MO-00003

AGENCY: U.S. Small Business Administration.

ACTION: Amendment 1.

SUMMARY: This is an amendment of the Presidential declaration of a major disaster for the State of Missouri (FEMA-1635-DR ), dated 4/5/2006.

Incident: Severe Storms, Tornadoes, and Flooding

Incident Period: 3/30/2006 through 4/3/2006.

Effective Date: 4/17/2006.

Physical Loan Application Deadline Date: 6/5/2006.

EIDL Loan Application Deadline Date: 1/5/2007.

ADDRESSES: Submit completed loan applications to: U.S. Small Business Administration, National Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Missouri, dated 4/5/2006 is hereby amended to include the following areas as adversely affected by the disaster:

Primary Counties: Andrew, Butler, Dunklin, Pettis, St. Francois, Stoddard.

Contiguous Counties:

Missouri:

Benton, Bollinger, Buchanan, Cape Girardeau, Carter, Cooper, Dekalb , Gentry, Henry, Holt, Iron, Jefferson, Johnson, Lafayette, Madison, Morgan, Nodaway, Perry, Ripley, Saline, Scott, Ste. Genevieve, Washington, Wayne.

Arkansas:

Clay, Craighead, Greene.

Kansas:

Doniphan.

All other information in the original declaration remains unchanged.

(Catalog of Federal Domestic Assistance Numbers 59002 and 59008)

Herbert L. Mitchell,
Associate Administrator for Disaster Assistance.

[FR Doc. E6-6191 Filed 4-24-06; 8:45 am]

BILLING CODE 8025-01-P